DEPARTMENT OF ENERGY

Federal Energy Regulatory Commission

[Project No. 13254-000]

City of Aspen; Notice of Preliminary Permit Application Accepted for Filing and Soliciting Comment and Motions To Intervene

September 19, 2008.

On July 10, 2008, the City of Aspen filed an application, pursuant to section 4(f) of the Federal Power Act, proposing to study the feasibility of the Castle Creek Hydroelectric Project, to be located on Castle Creek in Pitkin County, Colorado.

The proposed Castle Creek Hydroelectric Project consists of: (1) The City of Aspen's “Thomas Reservoir”, a small impoundment constructed in 1964 as a part of Aspen's Water Treatment Facilities, (2) a single underground penstock that would replace two (out of service) underground penstocks (3) a proposed powerhouse with a single vertical shaft Pelton turbine coupled to a synchronous generator having a total installed capacity of 1.05 megawatts, (4) a new tailrace from the powerhouse that will deliver flows to Castle Creek just above the existing bridge, and (5) appurtenant facilities. The project would have an annual generation of 7.7 million kilowatt-hours that would be delivered to the City system.

Applicant Contact: Mr. Phil Overyender, Director of Public Works, City of Aspen, 130 South Galena St., Aspen, CO 81611; phone: (970) 920-5111.

FERC Contact: Alyssa Dorval, (202) 502-6735.

Deadline for filing comments, motions to intervene: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13254) in the docket number field to access the document. For assistance, call toll-free 1-866-208-3372.

Kimberly D. Bose,
Secretary.

[FR Doc. E8-22622 Filed 9-25-08; 8:45 am]

BILLING CODE 6717-01-P